NUCLEAR REGULATORY COMMISSION

Notice of Sunshine Act Meetings

Agency Holding the Meetings: Nuclear Regulatory Commission.

DATES: Weeks of April 23, 30, May 7, 14, 21, 28, 2007.

Place: Commissioners' Conference Room, 11555 Rockville Pike, Rockville, Maryland.

Status: Public and Closed.

Matters to be Considered:

Week of April 23, 2007

Monday, April 23, 2007

2:30 p.m.

Discussion of Security Issues (Closed-Ex. 1).

Week of April 30, 2007—Tentative

There are no meetings scheduled for the Week of April 30, 2007.

Week of May 7, 2007—Tentative

Monday, May 7, 2007

1:25 p.m.

Affirmation Session (Public Meeting) (Tentative).

a. Consumers Energy Co. (Big Rock Point ISFSI); License Transfer Application (Tentative).

This meeting will be webcast live at the Web address— http://www.nrc.gov.

1:30 p.m.

Briefing on Office of Federal and State Materials and Environmental Management Programs (FSME) Programs, Performance, and Plans (Public Meeting) (Contact: George Deegan, 301-415-7834).

This meeting will be webcast live at the Web address— http://www.nrc.gov.

Week of May 14, 2007—Tentative

There are no meetings scheduled for the Week of May 14, 2007.

Week of May 21, 2007—Tentative

There are no meetings scheduled for the Week of May 21, 2007.

Week of May 28, 2007—Tentative

Tuesday, May 29, 2007

1:30 p.m.

NRC All Hands Meeting (Public Meeting) (Contact: Rickie Seltzer, 301-415-1728). Marriott Bethesda North Hotel, 5701 Marinelli Road, Rockville, MD 20852.

Wednesday, May 30, 2007

9:30 a.m.

Briefing on Results of the Agency Action Review Meeting (AARM)—Materials (Public Meeting).

This meeting will be webcast live at the Web address— http://www.nrc.gov.

10:15 a.m.

Discussion of Security Issues (Closed—Ex.1).

Thursday, May 31, 2007

9 a.m.

Briefing on Results of the Agency Action Review Meeting (AARM)—Reactors (Public Meeting).

This meeting will be webcast live at the Web address— http://www.nrc.gov.

* The schedule for Commission meetings is subject to change on short notice. To verify the status of meetings call (recording)—(301) 415-1292. Contact person for more information: Michelle Schroll, (301) 415-1662.

Additional Information

By a vote of 5-0 on April 19, 2007, the Commission determined pursuant to U.S.C. 552b(e) and § 9.107(a) of the Commission's rules that “Discussion of Security Issues (Closed-Ex. 1)” be held April 23, 2007, and on less than one week's notice to the public.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 19, 2007.
R. Michelle Schroll,
Office of the Secretary.

[FR Doc. 07-2046 Filed 4-20-07; 11:09 am]

BILLING CODE 7590-01-P